DEPARTMENT OF ENERGY

Agency Information Collection Extension

AGENCY: Office of Environment, Health, Safety and Security, U.S. Department of Energy.

ACTION: Notice and request for comments.

SUMMARY: The Department of Energy (DOE), pursuant to the Paperwork Reduction Act of 1995, intends to extend for three years an information collection request with the Office of Management and Budget (OMB). The purpose of this collection is to ensure that individuals who occupy positions affording them access to certain materials, nuclear explosive devices, facilities, and programs meet the highest standards of reliability and physical and mental suitability.

DATES: Comments regarding this proposed information collection must be received on or before July 22, 2022. If you anticipate difficulty in submitting comments within that period, contact the person listed in the FOR FURTHER INFORMATION CONTACT section as soon as possible.

ADDRESSES: Written comments may be sent to Mike Hamar, EHSS-1.2/6H-035 Forrestal Building, U.S. Department of Energy, 1000 Independence Avenue SW, Washington, DC 20585-1290 or by email at mike.hamar@hq.doe.gov.

FOR FURTHER INFORMATION CONTACT: Requests for additional information or copies of the information collection instrument and instructions should be directed to Mike Hamar, EHSS-1.2/6H-035 Forrestal Building, U.S. Department of Energy, 1000 Independence Avenue SW, Washington, DC 20585-1290 or by email at mike.hamar@hq.doe.gov or by telephone at (202) 586-2569.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5122;

(2) Information Collection Request Title: Human Reliability Program;

(3) Type of Review: Renewal;

(4) Purpose: The purpose of this collection is to ensure that individuals who occupy positions affording access to certain materials, nuclear explosive devices, facilities, and programs meet the highest standards of reliability and physical and mental suitability.

This information collection request consists of forms that will certify to DOE that respondents were advised of the requirements for occupying or continuing to occupy a Human Reliability Program (HRP) position. The HRP is a security and safety reliability program for individuals who apply for or occupy certain positions that are critical to the national security. It requires an initial and annual supervisory review, medical assessment, management evaluation, and a DOE personnel security review of all applicants or incumbents. It is also used to ensure that employees assigned to nuclear explosive duties do not have emotional, mental, or physical conditions that could result in an accidental or unauthorized detonation of nuclear explosives. The information collection instructions are forms which include: HRP Certification (DOE F 470.3), Acknowledgement and Agreement to Participate in the HRP (DOE F 470.4), Authorization and Consent to Release HRP Records in Connection with HRP (DOE F 470.5), and HRP Alcohol Testing Form (DOE F 470.7).

(5) Estimated Number of Respondents: 41,312;

(6) Annual Estimated Number of Total Responses: 41,365;

(7) Annual Estimated Number of Burden Hours: 3,587;

(8) Annual Estimated Reporting and Recordkeeping Cost Burden: $312,069.

Statutory Authority: 42 U.S.C. 2165; 42 U.S.C. 2201; 42 U.S.C. 5814-5815; 42 U.S.C. 7101 et seq.; 50 U.S.C. 2401 et seq.; E.O. 10450, 3 CFR 1949-1953 Comp., p. 936, as amended; E.O. 10865, 3 CFR 1959-1963 Comp., p. 398, as amended; 3 CFR Chap. IV.

Signing Authority

This document of the Department of Energy was signed on May 17, 2022, by Matthew B. Moury, Director, Office of Environment, Health, Safety and Security, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 18, 2022.
Treena V. Garrett,
Federal Register Liaison Officer, U.S. Department of Energy.

[FR Doc. 2022-10978 Filed 5-20-22; 8:45 am]

BILLING CODE 6450-01-P